DEPARTMENT OF COMMERCE

National Telecommunications and Information Administration

Agency Information Collection Activities; Submission to the Office of Management and Budget (OMB) for Review and Approval; Comment Request; Communications Supply Chain Risk Information Partnership Supplemental Information Gathering

AGENCY: National Telecommunications and Information Administration (NTIA), Commerce.

ACTION: Notice of information collection, request for comment.

SUMMARY: The Department of Commerce, in accordance with the Paperwork Reduction Act of 1995 (PRA), invites the general public and other Federal agencies to comment on proposed and continuing information collections, which will help us assess the impact of our information collection requirements and minimize the public's reporting burden. The purpose of this notice is to allow for 60 days of public comment preceding submission of the collection to OMB.

DATES: To ensure consideration, comments regarding this proposed information collection must be received on or before February 27, 2023.

ADDRESSES: Interested persons are invited to submit written comments by email to Kathryn Basinsky, Telecommunications Policy Specialist, National Telecommunications and Information Administration, U.S. Department of Commerce, 1401 Constitution Avenue NW, Washington, DC 20230 or by email at CSRIP@ntia.gov. Please reference “C-SCRIP Supplemental Information Gathering” in the subject line of your comments. Do not submit Confidential Business Information or otherwise sensitive or protected information.

FOR FURTHER INFORMATION CONTACT: Requests for additional information or specific questions related to collection activities should be directed to Kathryn Basinsky, Telecommunications Policy Specialist, National Telecommunications and Information Administration, U.S. Department of Commerce, 1401 Constitution Avenue NW, Washington, DC 20230, via email at CSRIP@ntia.gov, or via telephone at (202) 482-1880.

SUPPLEMENTARY INFORMATION:

I. Abstract

The Secure and Trusted Communications Networks Act of 2019 (STCNA), Public Law 112-96, 133 Stat. 158 (2020) (codified as amended at 47 U.S.C. 1601-1609), tasked NTIA with establishing a program to share information regarding supply chain security risks with trusted providers of advanced communications service and trusted suppliers of communications equipment or services. Furthermore, STCNA directed NTIA to conduct regular briefings and events and engage with trusted providers of advanced communications service and trusted suppliers of communications equipment or services, particularly small businesses or those that primarily serve rural areas.

NTIA engages in several activities to satisfy the statutory obligations assigned by STCNA, including hosting a public-facing C-SCRIP website to disseminate information about the program as well as public, open-source, unclassified supply chain alerts and information, and training opportunities. The agency also distributes a bi-monthly newsletter for those who subscribe via the C-SCRIP website and conducts webinars and briefings on a variety of cybersecurity and supply chain security topics.

To tailor its engagement and more effectively and efficiently disseminate information, NTIA is seeking to collect additional biographical information from those signing up for its newsletter. Specifically, NTIA would like to collect a subscriber's name, title, employer, location (state and country), and email address. This information will enable NTIA staff to better understand the demographics of its constituents. As a result, NTIA will be able to create and distribute cybersecurity and supply chain risk information that will be more useful to its constituents and to attend events in locations where its core audience is also likely to be able to attend.

II. Method of Collection

Under this proposed effort, NTIA will collect data electronically via webform on the C-SCRIP website.

III. Data

OMB Control Number: 0660-XXXX.

Form Number(s): None.

Type of Review: New information collection.

Affected Public: Business or other for-profit organizations; not-for-profit institutions; State, local, or Tribal government; Federal Government; or any other member of the public who wishes to receive the C-SCRIP newsletter.

Estimated Number of Respondents: 300.

Estimated Time per Response: 10 minutes or less.

Estimated Total Annual Burden Hours: 1,500.

Estimated Total Annual Cost to Public: $2,379.

Respondent's Obligation: Voluntary.

Legal Authority: The Secure and Trusted Communications Networks Act of 2019 (STCNA), Public Law 112-96, 133 Stat. 158 (2020) (codified as amended at 47 U.S.C. 1601-1609).

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Chief Information Officer, Commerce Department.

[FR Doc. 2022-28216 Filed 12-27-22; 8:45 am]

BILLING CODE 3510-60-P